DEPARTMENT OF THE INTERIOR

Bureau of Land Management

[WO-310-1310-PB-24 1A]

Submission to Office of Management and Budget—Information Collection, OMB Control Number 1004-0132

AGENCY: Bureau of Land Management, Interior.

ACTION: Notice and request for comments.

SUMMARY: In accordance with the Paperwork Reduction Act of 1995, the Bureau of Land Management (BLM) has submitted a request for an extension of an approved information collection to the Office of Management and Budget (OMB) for approval.

DATES: The OMB is required to respond to this request within 60 days but may respond after 30 days. Submit your comments to OMB at the address below by April 20, 2007 to receive maximum consideration.

ADDRESSES: Send comments to the OMB, Interior Department Desk Officer (1004-0132), at OMB-OIRA via e-mail OIRA_DOCKET@omb.eop.gov or via facsimile at (202) 395-6566. Also please send a copy of your comments to BLM via Internet and include your name, address, and ATTN: 1004-0132 in your Internet message to comments_washington@blm.gov or via mail to: U.S. Department of the Interior, Bureau of Land Management, Mail Stop 401LS, 1849 C Street, NW., ATTN: Bureau Information Collection Clearance Officer (WO-630), Washington, DC 20240.

FOR FURTHER INFORMATION CONTACT: You may contact Shirlean Beshir to obtain copies and explanatory material on this information collection at (202) 452-5033. Persons who use a telecommunication device for the deaf (TDD) may call the Federal Information Relay Service (FIRS) on 1-800-877-8330, 24 hours a day, seven days a week, to contact Ms. Beshir.

SUPPLEMENTARY INFORMATION: On June 21, 2006, the BLM published a notice in the Federal Register (17 FR 35695) requesting comments on the information collection. The comment period closed on August 21, 2006. The BLM did not receive any comments.

We are soliciting comments on the following:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title: Geothermal Resource Leasing (43 CFR part 3200 through 3287).

OMB Control Number: 1004-0132.

Abstract: The BLM manages the leasing and development of geothermal resources under the regulations at (43 CFR part 3200 through 3287). These regulations implement the following statutes:

(1) The Energy Policy Act of 2005 (Pub. L. 109-58);

(2) The Mineral Leasing Act of 1920 (30 U.S.C. 181 et seq.);

(3) The Geothermal Steam Act of 1970 (30 U.S.C. 1001-1028), as amended;

(4) The Act of August 7, 1947 (Mineral Leasing Act of Acquired Lands) (30 U.S.C. 351-359);

(5) The Department of the Interior Appropriations Act of 1981 (42 U.S.C. 6508);

(6) The Attorney General's Opinion of April 2, 1941 (40 Op. Atty. Gen. 41);

(7) The Federal Property and Administrative Services Act of 1949 (40 U.S.C. 471 et seq.) provides the authority for leasing lands acquired from the General Services Administration; and

(8) The National Environmental Policy Act of 1969. The BLM uses this information to approve lease activities for geothermal resources and unit agreements, process nominations for geothermal lease sales, and monitor compliance with granted approvals. In most cases, we do not require a specific form to collect the required resource and environmental information, since we generally gather the information through the course of industry operations.

Burden Estimate per Form: We estimate the completion time for this form and non-form information that is submitted quarterly, monthly, on occasion, and annually to the BLM by the private sector as follows:

Burden hours information collected | Number of actions per year | Burden hours per action | Total annual burden hours
(a) Geothermal Sundry Notice (Form 3260-3) | 100 | 8 | 800
(b) Notice of Intent to Conduct Geothermal Resource Exploration Operations (Form 3200-9) | 12 | 8 | 96
(c) Geothermal Drilling Permit (Form 3260-2) | 12 | 8 | 96
(d) Geothermal Well Completion Report (Form 3260-4) | 12 | 8 | 96
(e) 43 CFR subpart 3202; Lessee Qualifications | 79 | 1 | 79
(f) 43 CFR subpart 3203; Competitive Leasing | 300 | 20 | 6,000
(g) 43 CFR subpart 3204; Noncompetitive Leasing | 50 | 40 | 200
(h) 43 CFR subpart 3205; Direct Use Leasing | 10 | 10 | 100
(i) 43 CFR subpart 3206; Lease Issuance | 300 | 1 | 300
(j) 43 CFR subpart 3207; Lease Terms and Extension | 50 | 1 | 50
(k) 43 CFR subpart 3210 | 50 | 1 | 50
(l) 43 CFR subpart 3211; Fees | 300 | 1 | 300
(m) 43 CFR subpart 3212; Lease Suspensions and Royalty Rate Reductions | 10 | 40 | 400
(n) 43 CFR subpart 3213; Relinquishment, Termination, and Cancellation | 10 | 40 | 400
(o) 43 CFR subpart 3214; Bonds | 10 | 4 | 40
(p) 43 CFR subpart 3215; Replacement Bonds | 10 | 4 | 40
(q) 43 CFR subpart 3216; Transfers | 30 | 60 | 180
(r) 43 CFR subpart 3217; Cooperative Agreements | 10 | 40 | 400
(s) 43 CFR subpart 3251; Exploration Operations | 12 | 8 | 96
(t) 43 CFR subpart 3252; Conducting Exploration Operations | 100 | 8 | 800
(u) 43 CFR subpart 3253; Reports: Exploration Operations | 12 | 8 | 96
(v) 43 CFR subpart 3256; Exploration Operations Relief and Appeals | 10 | 8 | 80
(w) 43 CFR subpart 3261; Drilling Operations | 12 | 8 | 96
(x) 43 CFR subpart 3264; Reports-Drillings Operations/Recordkeeping | 12 | 10 | 120
(y) 43 CFR subpart 3272; Utilization Plans and Facility Construction Permits | 10 | 10 | 100
(z) 43 CFR subpart 3273; Site License | 10 | 10 | 100
(aa) 43 CFR subpart 3274; Commercial Use Permit | 10 | 10 | 100
(bb) 43 CFR subpart 3276; Reports Utilization Operations | 10 | 10 | 100
(cc) 43 CFR subpart 3281; Unit Agreements | 10 | 10 | 100
(dd) 43 CFR subpart 3282; Participating Area | 10 | 10 | 100
(ee) 43 CFR subpart 3283; Unit Agreement Modifications | 10 | 10 | 100
Totals | 1,447 |  | 10,137

Annual Responses: 1,447.

Application Fee per Response: 0.

Annual Burden Hours: 10,137

Dated: March 15, 2007.
Ted R. Hudson,
Bureau of Land Management, Acting Division Chief Regulatory Affairs.

[FR Doc. 07-1363 Filed 3-20-07; 8:45 am]

BILLING CODE 4310-84 M